DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of October 7, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Henry County, Iowa and Incorporated Areas
Docket No.: FEMA-B-1945 and FEMA-B-2036
City of Mount Pleasant | City Hall, 307 East Monroe Street, Mount Pleasant, IA 52641.
City of Olds | City Hall, 111 South Main Street, Olds, IA 52647.
City of Rome | Rome City Hall, 104 East Maple Street, Mount Pleasant, IA 52641.
City of Westwood | Westwood City Hall, 3952 Sycamore Drive, Mount Pleasant, IA 52641.
City of Winfield | City Hall, 115 North Locust Street, Winfield, IA 52659.
Unincorporated Areas of Henry County | Henry County Courthouse, 100 East Washington Street, Mount Pleasant, IA 52641.
Palo Alto County, Iowa and Incorporated Areas
Docket No.: FEMA-B-2018
City of Curlew | Town Hall, 102 Godwit, Curlew, IA 50527.
City of Cylinder | City Building, 217 Main Street, Cylinder, IA 50528.
City of Emmetsburg | City Hall, 2021 Main Street, Emmetsburg, IA 50536.
City of West Bend | City Hall, 301 South Broadway Avenue, West Bend, IA 50597.
Unincorporated Areas of Palo Alto County | Palo Alto County Emergency Management Office, 1907 11th Street, Emmetsburg, IA 50536.
Tama County, Iowa and Incorporated Areas
Docket Nos.: FEMA-B-1957 and FEMA-B-2036
City of Chelsea | City Hall, 600 Station Street, Chelsea, IA 52215.
City of Clutier | City Hall, 214 Main Street, Clutier, IA 52217.
City of Dysart | City Hall, 601 Wilson Street, Dysart, IA 52224.
City of Elberon | City Hall, 106 Main Street, Elberon, IA 52225.
City of Garwin | City Hall, 208 Main Street, Garwin, IA 50632.
City of Gladbrook | City Hall, 319 2nd Street, Gladbrook, IA 50635.
City of Montour | City Hall, 102 East Elm Street, Montour, IA 50173.
City of Tama | City Hall, 305 Siegel Street, Tama, IA 52339.
City of Toledo | City Hall, 1007 South Prospect Drive, Toledo, IA 52342.
City of Traer | City Hall, 649 2nd Street, Traer, IA, 50675.
City of Vining | City Hall, 407 1st Street, Vining, IA, 52348.
Sac and Fox Tribe of the Mississippi | Meskwaki Natural Resources Office, 1826 340th Street, Tama, IA 52339.
Unincorporated Areas of Tama County | Tama County Administration Building, 104 West State Street, Toledo, IA 52342.
Muskegon County, Michigan (All Jurisdictions)
Docket No.: FEMA-B-2033
Charter Township of Fruitport | Charter Township Hall, 5865 Airline Road, Fruitport, MI 49415.
Charter Township of Muskegon | Charter Township Hall, 1990 East Apple Avenue, Muskegon, MI 49442.
City of Montague | City Hall, 8778 Ferry Street, Montague, MI 49437.
City of Muskegon | City Hall, 933 Terrace Street, Muskegon, MI 49440.
City of Muskegon Heights | City Hall, 2724 Peck Street, Muskegon Heights, MI 49444.
City of North Muskegon | City Hall, 1502 Ruddiman Drive, North Muskegon, MI 49445.
City of Norton Shores | City Hall, 4814 Henry Street, Norton Shores, MI 49441.
City of Whitehall | City Hall, 405 East Colby Street, Whitehall, MI 49461.
Township of Fruitland | Fruitland Township Hall, 4545 Nestrom Road, Whitehall, MI 49461.
Township of Laketon | Laketon Township Hall, 2735 West Giles Road, North Muskegon, MI 49445.
Township of Montague | Township Hall, 8915 Whitbeck Road, Montague, MI 49437.
Township of Whitehall | Township Hall, 7644 Durham Road, Whitehall, MI 49461.
Township of White River | White River Township Hall, 7386 Post Road, Montague, MI 49437.
Village of Fruitport | Village Hall, 45 North 2nd Avenue, Fruitport, MI 49415.
Yellow Medicine County, Minnesota and Incorporated Areas
Docket No.: FEMA-B-1945
City of Canby | City Hall, 110 Oscar Avenue North, Canby, MN 56220.
City of Granite Falls | City Hall, 641 Prentice Street, Granite Falls, MN 56241.
City of Hanley Falls | City Hall, 109B 1st Street North, Hanley Falls, MN 56245.
City of Porter | City Hall, 301 Lone Tree Street, Porter, MN 56280.
City of Wood Lake | City Hall, 88 2nd Avenue West, Wood Lake, MN 56297.
Unincorporated Areas of Yellow Medicine County | Yellow Medicine Planning and Zoning Office, 1000 Tenth Avenue, Suite 2, Clarkfield, MN 56223.
Upper Sioux Community | Upper Sioux Community Tribal Office, 5722 Travers Lane, Granite Falls, MN 56241.
Nemaha County, Nebraska and Incorporated Areas
Docket No.: FEMA-B-2012
City of Auburn | Auburn City Hall, 1101 J Street, Auburn, NE 68305.
City of Peru | City Hall, 614 5th Street, Peru, NE 68421.
Unincorporated Areas of Nemaha County | Register of Deeds, Nemaha County Courthouse, 1824 N Street, Suite 201, Auburn, NE 68305.
Village of Brock | Johnson Village Office, 224 Main Street, Johnson, NE 68378.
Village of Brownville | Village Office, 223 Main Street, Brownville, NE 68321.
Village of Julian | Community Building/Fire Hall, 104 West Street, Julian, NE 68379.
Village of Nemaha | Village Office, 404 1st Street, Nemaha, NE 68414.
Richardson County, Nebraska and Incorporated Areas
Docket No.: FEMA-B-2012
City of Falls City | City Clerk's Office, 2307 Barada Street, Falls City, NE 68355.
City of Humboldt | City Clerk's Office, 330 East Square Street, Humboldt, NE 68376.
Iowa Tribe of Kansas and Nebraska | Iowa Tribal Office, 3345 B Thrasher Road, White Cloud, KS 66094.
Sac and Fox Nation of Missouri, Kansas and Nebraska | Sac and Fox Tribal Office, 305 North Main Street, Reserve, KS 66434.
Unincorporated Areas of Richardson County | Richardson County Clerk's Office, 1700 Stone Street, Falls City, NE 68355.
Village of Dawson | Village Clerk's Office, 921 Ridge Street, Dawson, NE 68337.
Village of Preston | Board Chair's Home, 65606 704th Trail, Falls City, NE 68355.
Village of Rulo | Village Clerk's Office and Home, 66300 703 Lane, Rulo, NE 68431.
Village of Salem | Community Building, 205 East Main Street, Salem, NE 68433.
Village of Stella | Community Building, 222 North Main Street, Stella, NE 68442.
Village of Verdon | Village Clerk's Office, 314 Main Street, Verdon, NE 68457.

[FR Doc. 2021-14991 Filed 7-13-21; 8:45 am]

BILLING CODE 9110-12-P